NATIONAL FOUNDATION ON THE ARTS AND THE HUMANITIES

Institute of Museum and Library Services

Submission for OMB Review, Comment Request, Proposed Collection: IMLS Grants to States Program “State Program Reporting System (SPR) Forms

AGENCY: Institute of Museum and Library Services, National Foundation on the Arts and the Humanities.

ACTION: Submission for OMB Review, Comment Request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes the clearance of the IMLS Grants to States Program “State Program Reporting System (SPR) Forms.

A copy of the proposed information collection request can be obtained by contacting the individual listed below in the ADDRESSES section of this notice.

DATES: Comments must be submitted to the office listed in the FOR FURTHER INFORMATION CONTACT section below on or before May 29, 2018.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Sandra Webb, Director of Grant Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to transform the lives of individuals and communities. To learn more, visit www.imls.gov.

Current Actions: This notice proposes the clearance of the IMLS Grants to States Program “State Program Reporting System (SPR) Forms and Instructions. The 60-day Notice for the “Notice of Proposed Information Collection Requests: 2019-2021 IMLS Grants to States Program “State Program Reporting System (SPR) Forms were published in the Federal Register on February 28, 2018 (83 FR 8711). The agency has taken into consideration the one comment that was received under this notice.

This action is to renew the forms and instructions for the IMLS Grants to States Program “State Program Reporting System” for the next three years. These forms include:

• SPR Reporting System User Documentation

• Grants to States Program Report

• Financial Status Report

• SPR Phase 3 Reporting

• State Legal Officer's Certification of the Authorized Certifying Official

• internet Safety Certification for Applicant Public Libraries, Public Elementary and Secondary School Libraries, and Consortia with Public and/or Public School Libraries

The Grants to States program is the largest source of Federal funding support for library services in the U.S. Using a population based formula, more than $150 million is distributed among the State Library Administrative Agencies (SLAAs) every year. SLAAs are official agencies charged by law with the extension and development of library services, and they are located in:

• Each of the 50 States of the United States, and the District of Columbia;

• The Territories (the Commonwealth of Puerto Rico, the U.S. Virgin Islands, Guam, American Samoa, and the Commonwealth of the Northern Mariana Islands); and

• The Freely Associated States (the Republic of the Marshall Islands, the Federated States of Micronesia, and the Republic of Palau).

Each year, over 1,500 Grants to States projects support the purposes and priorities outlined in the Library Services and Technology Act (LSTA). (See 20 U.S.C. 9121 et seq.) SLAAs may use the funds to support statewide initiatives and services, and they may also distribute the funds through competitive subawards (subgrants or cooperative agreements) to public, academic, research, school, or special libraries or library consortia (for-profit and Federal libraries are not eligible). Each SLAA must submit a plan that details library services goals for a five-year period. (20 U.S.C 9134). SLAAs must also conduct a five-year evaluation of library services based on that plan. These plans and evaluations are the foundation for improving practice and informing policy. Each SLAA receives IMLS funding to support the five year period through a series of overlapping, two year grant awards.

Each SLAA must file interim and final financial reports, as well as final performance reports for each of these two year grants. Since 2002, the final performance reporting has been accomplished through IMLS' State Program Reporting (SPR) system. To improve how IMLS measures the impact of the Federal investment in the Grants to States program, IMLS and SLAAs have been partnering on a comprehensive planning and evaluation initiative called “Measuring Success.” This multi-year effort has fundamentally shifted the way in which Grants to States final report information is gathered and shared, and it is improving program accountability, reporting, evaluation, and assessment. The SPR has been developed in phases, in concert with a small group of SLAAs acting as pilots for each phase. Roughly, these phases corresponded to: Framework and question development; descriptive reporting for the two year award; and finally the incorporation of the performance measurement reporting. Currently, all phases have been rolled out and are reflected in the documentation submitted for the three year approval. The Measuring Success initiative has driven the development of the data reporting and analysis system (database) that replaces the older narrative State Program Report system.

The SPR development was guided by a data reporting and collection framework that balances the need for descriptive information to monitor compliance with award conditions with the need for data on performance measures to assess the impact of the public funds. By gathering project data more consistently, IMLS is better able to compare projects within and across states and demonstrate the impact of public funds on library services. States are also able to share information about their projects both within the library community and with the public at large.

Agency: Institute of Museum and Library Services.

Title: IMLS Grants to States Program “State Program Reporting System (SPR) Forms.

OMB Number: 3137-0071.

Frequency: Once per year.

Affected Public: State Library Administrative Agencies.

Number of Respondents: 56.

Estimated Average Burden per Response: 47.83 hours.

Estimated Total Annual Burden: 2,678 hours.

Total Annualized capital/startup costs: n/a.

Total Annual costs: $74,113.

Dated: April 24, 2018.
Kim Miller,
Grants Management Specialist, Office of Grants Policy and Management.

[FR Doc. 2018-08936 Filed 4-26-18; 8:45 am]

BILLING CODE 7036-01-P